NUCLEAR REGULATORY COMMISSION

[Docket No. 50-7513; NRC-2021-0193]

Kairos Power, LLC; Hermes Test Reactor

AGENCY: Nuclear Regulatory Commission.

ACTION: Draft environmental impact statement; request for comment and public comment meeting.

SUMMARY: The U.S. Nuclear Regulatory Commission (NRC) is issuing for public comment draft NUREG-2263, Environmental Impact Statement (EIS) for the Construction Permit for the Kairos Hermes Test Reactor. Kairos Power, LLC (Kairos) is requesting a license to construct a test reactor in Oak Ridge, Tennessee. The NRC is seeking public comment on this action and has scheduled a public meeting that will take place both in Oak Ridge, Tennessee and as an online webinar.

DATES: Submit comments by December 6, 2022. Comments received after this date will be considered if it is practical to do so, but the NRC is able to ensure consideration only for comments received on or before this date. On November 16, 2022, the NRC is planning to hold a public meeting and an online webinar, to present an overview of its preliminary analysis and to receive comments from 7:00 p.m. until 9:00 p.m. Eastern Time (ET), See Section IV, “Request for Comment and Public Meeting,” of this notice for additional information.

ADDRESSES: You may submit comments by any of the following methods; however, the NRC encourages electronic comment submission through the Federal rulemaking website:

• Email comments to: KairosHermes-CPEIS@nrc.gov.

• Federal rulemaking website: Go to https://www.regulations.gov and search for Docket ID NRC-2021-0193. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Tamsen Dozier, telephone: 301-415-2272, email: Tamsen.Dozier@nrc.gov, or Peyton Doub, telephone: 301-415-6703, email: Peyton.Doub@nrc.gov. Both are staff members of the Office of Nuclear Material Safety and Safeguards at the U.S. Nuclear Regulatory Commission, Washington, DC 20555-0001.

SUPPLEMENTARY INFORMATION:

I. Obtaining Information and Submitting Comments

A. Obtaining Information

Please refer to Docket ID NRC-2021-0193 when contacting the NRC about the availability of information regarding this document. You may obtain publicly available information related to this document by any of the following methods:

• Federal Rulemaking Website: Go to https://www.regulations.gov and search for Docket ID NRC-2021-0193.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The draft EIS is available in ADAMS under Accession No. ML22259A126.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. ET, Monday through Friday, except Federal holidays.

• Project Website: Information related to the Hermes—Kairos project can be accessed on the NRC's website at: https://www.nrc.gov/reactors/non-power/hermes-kairos.html.

• Public Library: A copy of the draft EIS will be available at the Oak Ridge Public Library, 1401 Oak Ridge Turnpike, Oak Ridge, Tennessee 37830.

B. Submitting Comments

The NRC encourages electronic comment submission through the Federal rulemaking website (https://www.regulations.gov). Please include Docket ID NRC-2021-0193 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Comments submitted through the NRC project email address will be processed into ADAMS, and all comments will be compiled and addressed in the final EIS.

II. Background

By letter dated November 29, 2021 (ADAMS Accession No. ML21319A354) the NRC staff informed Kairos of its determination that the Kairos application for a construction permit for the Hermes test reactor was acceptable for docketing under Docket No. 50-7513. A notice of acceptance for docketing of the application was published in the Federal Register on December 1, 2021 (86 FR 68290) and a notice of opportunity for hearing was published on February 9, 2022 (87 FR 7503). A notice of intent to prepare an environmental impact statement and to conduct scoping process was published in the Federal Register on February 18, 2022 (87 FR 9394).

III. Discussion

As set forth in Section 51.20(b)(1) of title 10 of the Code of Federal Regulations (10 CFR), issuance of a construction permit (CP) under 10 CFR part 50 for a testing facility is an action that requires an EIS. This notice is being published in accordance with the National Environmental Policy Act (NEPA) of 1969, as amended, and the NRC's regulations in 10 CFR part 51. In addition, as outlined in 36 CFR 800.8(c), “Coordination with the National Environmental Policy Act,” the NRC staff has been coordinating compliance with Section 106 of the National Historic Preservation Act (NHPA) with steps taken to meet the requirements of NEPA. Pursuant to 36 CFR 800.8(c), the NRC staff used the process and documentation for the preparation of the draft EIS on the proposed action to comply with Section 106 of the NHPA in lieu of the procedures set forth in 36 CFR 800.3 through 800.6.

The draft EIS includes the NRC staff's preliminary analysis of the environmental impacts of the proposed action of deciding whether to issue a construction permit to Kairos. After weighing the environmental, economic, technical, and other benefits against environmental and other costs, the NRC staff's preliminary recommendation, unless safety issues mandate otherwise, is that the operating license be issued as requested.

IV. Request for Comment and Public Meeting

The NRC staff is requesting public comment on the draft EIS for the Construction Permit for the Kairos Hermes Test Reactor. On November 16, 2022, the NRC is planning to hold a public meeting and an online webinar, to present an overview of its preliminary analysis and to receive comments from 7:00 p.m. until 9:00 p.m. ET, at the Hilton DoubleTree at 215 S Illinois Avenue in Oak Ridge, Tennessee. A court reporter will transcribe all comments received during the public meeting and the transcript will be made publicly available. To be considered, comments must be provided either at the transcribed public meeting or in writing, as discussed in the ADDRESSES section of this document.

Additionally, the NRC staff will host an informal discussion at the Hilton DoubleTree for 1 hour prior to the start of the meeting for those attending the meeting in person. No formal comments will be accepted during the informal discussions.

Persons interested in attending this public meeting should monitor the NRC's Public Meeting Schedule website at https://www.nrc.gov/pmns/mtg for additional information, agendas for the meeting, and access information. Meeting details will also be available by November 1, 2022 at https://www.nrc.gov/reactors/non-power/hermes-kairos.html. Those wishing to speak and voice comments at the public meeting should follow the instructions listed on the NRC's Public Meeting Schedule website. The NRC encourages those wishing to voice comments during the meeting to register in advance by sending an email to KairosHermes-CPEIS@nrc.gov and indicate if attending in-person or remotely. Please contact Tamsen Dozier no later than November 1, 2022, if accommodations or special equipment is needed to attend or to provide comments, so that the NRC staff can determine whether the request can be accommodated.

Dated: September 26, 2022.
For the Nuclear Regulatory Commission.
Kenneth T. Erwin,
Chief, Environmental Review New Reactors Branch, Division of Rulemaking, Environmental, and Financial Support, Office of Nuclear Material Safety and Safeguards.

[FR Doc. 2022-21125 Filed 9-28-22; 8:45 am]

BILLING CODE 7590-01-P